DEPARTMENT OF HEALTH AND HUMAN SERVICES

Centers for Disease Control and Prevention

[60Day-14-14YI]

Proposed Data Collections Submitted for Public Comment and Recommendations

The Centers for Disease Control and Prevention (CDC), as part of its continuing effort to reduce public burden, invites the general public and other Federal agencies to take this opportunity to comment on proposed and/or continuing information collections, as required by the Paperwork Reduction Act of 1995. To request more information on the below proposed project or to obtain a copy of the information collection plan and instruments, call 404-639-7570 or send comments to LeRoy Richardson, 1600 Clifton Road, MS-D74, Atlanta, GA 30333 or send an email to omb@cdc.gov.

Comments submitted in response to this notice will be summarized and/or included in the request for Office of Management and Budget (OMB) approval. Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information. Written comments should be received within 60 days of this notice.

Proposed Project

Assessing School-centered HIV/STD Prevention Efforts in a Local Education Agency—New—Division of Adolescent and School Health (DASH), National Center for HIV/AIDS, Viral Hepatitis, STD, and TB Prevention, Centers for Disease Control and Prevention (CDC).

HIV infections remain high among young men who have sex with men. The estimated number of new HIV infections increased between 2008 and 2010 both overall and among MSM ages 13 to 24. Furthermore, sexual risk behaviors associated with HIV, other sexually transmitted disease (STD), and pregnancy often emerge in adolescence. For example, 2011 Youth Risk Behavior Surveillance System (YRBSS) data revealed 47.4% of U.S. high school students reported having had sex, and among those who had sex in the previous three months, 39.8% reported having not used a condom during last sexual intercourse. In addition, 2001-2009 YRBSS data revealed high school students identifying as gay, lesbian, and bisexual and those reporting sexual contact with both males and females were more likely to engage in sexual risk-taking behaviors than heterosexual students.

Given the disproportionate risk for HIV among YMSM ages 13-24, it is important to find ways to reach the younger youth (i.e., ages 13-19) in this range to decrease sexual risk behaviors and increase health-promoting behaviors such as routine HIV testing. Schools provide one opportunity for this. United States Census Bureau data suggests that because schools enroll more than 22 million teens (ages 14-19) and often have existing health and social services infrastructure, schools and their staff members are well-positioned to connect youth to a wide range of needed services, including housing assistance, support groups, and sexual health services such as HIV testing. As a result, CDC's DASH has focused a number of HIV and STD prevention efforts on strategies that can be implemented in or centered around schools.

The CDC requests a 3-year OMB approval to conduct a new information collection entitled, “Assessing School-Centered HIV/STD Prevention Efforts in a Local Education Agency”. The information collection uses a self-administered paper-pencil questionnaire, the Youth Health and School Climate Questionnaire, to conduct in-depth assessment of HIV and STD prevention efforts that are taking place in one local education agency (LEA) funded by CDC's Division of Adolescent and School Health (DASH) under strategy 4 (School-Centered HIV/STD Prevention for Young Men Who Have Sex with Men) of PS13-1308: Promoting Adolescent Health through School-Based HIV/STD Prevention and School-Based Surveillance. This data collection will provide data and reports for the funded LEA, and will allow the LEA to identify areas of the program that are working well and other areas that will need additional improvement. In addition, the findings will allow CDC to determine the potential impact of currently recommended strategies and make changes to those recommendations if necessary. The questionnaire will include questions on the following topics: demographic information; HIV and STD risk behaviors; use of HIV and STD health services; experiences at school, including school connectedness, harassment and bullying, homophobia, support of LGBTQ students; sexual orientation; receipt of referral for HIV and STD prevention health services; and health education.

This data collection system involves administration of a paper-and-pencil questionnaire to seven high schools that are participating in the HIV/STD prevention project of a local education agency that is funded with support from CDC's PS13-1308. The Youth Health and School Climate Questionnaire will be administered to approximately 16,500 students across the seven schools in the years 2014 and 2016. These data collection points coincide with the initiation of project activities and the mid-way points of the PS13-1308 cooperative agreement. We anticipate that each year of data collection will yield data from up to 16,500 high school students in grades 9 through 12 at the selected school.

Although some students may take the questionnaire in multiple years, this is not a longitudinal design and students' responses will not be tracked across the years. No personally identifiable information will be collected.

All students' parents will receive parental consent forms that provide them with an opportunity to opt their children out of the study. In addition, each student will be given an assent form that explains he or she may choose not to take the questionnaire or may skip any questions in the questionnaire with no penalty. Participation is completely voluntary.

The estimated burden per response ranges from 35-45 minutes. This variation in burden is due to the slight variability in skip patterns that may occur with certain responses and variations in the reading speed of students. The burden estimates presented here are based on the assumption of a 40-minute response time per response. Students in the 12th grade in fall 2014 will complete the questionnaire only once. It is estimated that students in the 9th, 10th, and 11th grade will complete the questionnaire in fall of 2014 and again in the spring of 2016 when they will be 10th, 11th, and 12th grade students. In addition, students who are in the 9th grade in spring of 2016 will also complete the questionnaire. Annualizing this collection over three years results in an estimated annualized burden of 11,000 hours for respondents. There are no costs to respondents other than their time.

Table A.12-1—Estimated Annualized Burden to Respondents
Respondents | Form name | Number of respondents | Number of responses per respondent | Average burden per response (in hours) | Total burden (in hours)
Students in the grades 9-12 | Youth Health and School Climate Questionnaire | 16,500 | 1 | 40/60 | 11,000
Total |  |  |  |  | 11,000

LeRoy Richardson,
Chief, Information Collection Review Office, Office of Scientific Integrity, Office of the Associate Director for Science, Office of the Director, Centers for Disease Control and Prevention.

[FR Doc. 2014-11039 Filed 5-13-14; 8:45 am]

BILLING CODE 4163-18-P